DEPARTMENT OF LABOR

Employment and Training Administration

Notice of Determinations Regarding Eligibility To Apply for Worker Adjustment Assistance

In accordance with section 223 of the Trade Act of 1974, as amended, (19 U.S.C. 2273), the Department of Labor herein presents summaries of determinations regarding eligibility to apply for trade adjustment assistance for workers (TA-W) number and alternative trade adjustment assistance (ATAA) by (TA-W) number issued during the periods of March 2006.

In order for an affirmative determination to be made and a certification of eligibility to apply for directly-impacted (primary) worker adjustment assistance to be issued, each of the group eligibility requirements of section 222(a) of the Act must be met.

I. Section (a)(2)(A) all of the following must be satisfied:

A. A significant number or proportion of the workers in such workers' firm, or an appropriate subdivision of the firm, have become totally or partially separated, or are threatened to become totally or partially separated;

B. The sales or production, or both, of such firm or subdivision have decreased absolutely; and

C. Increased imports of articles like or directly competitive with articles produced by such firm or subdivision have contributed importantly to such workers' separation or threat of separation and to the decline in sales or production of such firm or subdivision; or

II. Section (a)(2)(B) both of the following must be satisfied:

A. A significant number or proportion of the workers in such workers' firm, or an appropriate subdivision of the firm, have become totally or partially separated, or are threatened to become totally or partially separated;

B. There has been a shift in production by such workers' firm or subdivision to a foreign county of articles like or directly competitive with articles which are produced by such firm or subdivision; and

C. One of the following must be satisfied:

1. The country to which the workers' firm has shifted production of the articles is a party to a free trade agreement with the United States;

2. The country to which the workers' firm has shifted production of the articles to a beneficiary country under the Andean Trade Preference Act, African Growth and Opportunity Act, or the Caribbean Basin Economic Recovery Act; or

3. There has been or is likely to be an increase in imports of articles that are like or directly competitive with articles which are or were produced by such firm or subdivision.

Also, in order for an affirmative determination to be made and a certification of eligibility to apply for worker adjustment assistance as an adversely affected secondary group to be issued, each of the group eligibility requirements of section 222(b) of the Act must be met.

(1) Significant number or proportion of the workers in the workers' firm or an appropriate subdivision of the firm have become totally or partially separated, or are threatened to become totally or partially separated;

(2) The workers' firm (or subdivision) is a supplier or downstream producer to a firm (or subdivision) that employed a group of workers who received a certification of eligibility to apply for trade adjustment assistance benefits and such supply or production is related to the article that was the basis for such certification; and

(3) Either—

(A) The workers' firm is a supplier and the component parts it supplied for the firm (or subdivision) described in paragraph (2) accounted for at least 20 percent of the production or sales of the workers' firm; or

(B) A loss or business by the workers' firm with the firm (or subdivision) described in paragraph (2) contributed importantly to the workers' separation or threat of separation.

Affirmative Determinations for Worker Adjustment Assistance and Alternative Trade Adjustment Assistance

The following certifications have been issued; the date following the company name and location of each determination references the impact date for all workers of such determination.

The following certifications have been issued. The requirements of (a)(2)(A) (increased imports) of section 222 have been met, and section 246(a)(3)(A)(ii) of the Trade Act have been met.

A-W-58,726; Nelson Acquisition, LLC, Logansport, IN: January 26, 2005.

TA-W-58,726A; Nelson Acquisition, LLC, Columbia, TN: January 26, 2005.

TA-W-58,784; Moretz, Inc., Knitting Facility, Conover, NC: February 2, 2005.

TA-W-58,784A; Moretz, Inc., Newton Facility, Newton, NC: February 2, 2005.

TA-W-58,784B; Moretz, Inc., Warehouse Facility, Newton, NC: February 2, 2005.

TA-W-58,784C; Moretz, Inc., Hickory Facility, Hickory, NC: February 2, 2005.

TA-W-58,805; Collins Aikman Premier Molds, Sterling Heights, MI: February 3, 2005.

TA-W-58,815; Central Coating and Assembly, Inc., Mt. Pleasant, MI: February 26, 2006.

TA-W-58,861; Campbell Hausfeld, A Subsid. of Scott Fetzer, On-Site Leased Workers at Superior Staffing, Leitchfield, KY: February 2, 2005.

TA-W-58,934; Codi, Inc., Pillow, PA: February 27, 2005.

TA-W-58,968; Maryland Plastics, Inc., Federalsburg, MD: March 3, 2005.

TA-W-58,407; Franklin Industries Company, Franklin, PA: November 15, 2004.

TA-W-58,759; Buckingham Galleries, D/B/A Hitchcock Fine Home Furnishings, New Hartford, CT: January 30, 2005.

TA-W-58,760; Olympic Laser Processing, Belleville, MI: January 31, 2005.

TA-W-58,791; NorCap Limited Partnership, Gastonia, NC: January 26, 2005.

TA-W-58,796; Hastings Manufacturing Co., Hastings, MI: February 6, 2005.

TA-W-58,819; Bentwood Furniture, Inc., Grants Pass, OR: February 8, 2005.

TA-W-58,867; Hayes Lemmerz International, Huntington, IN: February 17, 2005.

TA-W-58,872; Manpower, Inc., Carolina Mills, Inc., Newton, NC: February 17, 2005.

TA-W-58,910; Joan Fabrics Corp., Mastercraft Sales and Design, Fall River, MA: February 21, 2005.

TA-W-58,691; Molding, Tooling and Design, Inc., Saco, ME: January 13, 2005.

TA-W-58,858,; Garden State Cutting Co., LLC, Passaic, NJ: February 15, 2005.

The following certifications have been issued. The requirements of (a)(2)(B) (shift in production) of section 222 and section 246(a)(3)(A)(ii) of the Trade Act have been met.

TA-W-58,769; American Medical Instruments, Inc., Dartmouth, MA: February 1, 2005.

TA-W-58,789; FCI USA, Inc., Etters, PA: March 27, 2005.

TA-W-58,811; Electrolux Home Care Products North America, On-Site Leased Workers of Southwest Staffing, El Paso, TX: June 18, 2005.

TA-W-58,840; VF Jeanswear Limited Partnership, Irvington, AL: March 12, 2006.

TA-W-58,845; Dura Automotive, Test Center, Pikeville, TN: February 10, 2005.

TA-W-58,851; Dal-Tile Corporation, a Division of Mohawk Industries, Jackson, TN: February 15, 2005.

TA-W-58,852; Motorola, Inc., Integrated Supply Chain Division, Fort Worth, TX: February 9, 2005.

TA-W-58,876; Selmer Apparel, Selmer, TN: February 22, 2005.

TA-W-58,877; Lamdau Uniforms, A Subsidiary of Selmer Apparel, LLC, Olive Branch, MS: May 2, 2004.

TA-W-58,901; Spirit Mountain Logistics, LLC, Workers at Hewlett-Packard Company, Corvallis, OR: February 22, 2005.

TA-W-58,915; Alba Health, LLC, Knoxville, TN: February 24, 2005.

TA-W-58,947; Collins and Aikman, Rantoul Division, Rantoul, IL: March 1, 2005.

TA-W-58,953; Eagle Ottawa, LLC, Cutting Operations, Rochester Hills, MI: March 2, 2005.

TA-W-58,957; Robbins, Inc., Division of Recreational Wood Sports Flooring, Ishpeming, MI: March 2, 2005.

TA-W-58,964; Reach Road Manufacturing Corp., Div. of Glamorise Foundations, Inc., Williamsport, PA: March 3, 2005.

TA-W-58,788; Pulse Specialty Company, Greensboro, MD: February 3, 2005.

TA-W-58,823; Siemens Medical Solutions USA, Ultrason Division, Mountain View, CA: December 20, 2004.

TA-W-58,836; American Greetings, Lafayette, TN: February 13, 2005.

TA-W-58,849; Michaels of Oregon, Oregon City, OR: February 14, 2005.

The following certification has been issued. The requirement of supplier to a trade certified firm and section 246(a)(3)(A)(ii) of the Trade Act have been met.

TA-W-58,423; Unifi, Inc., Plant 1, Mayodan, NC: November 29, 2004.

TA-W-58,835; Ramtex, Inc., Including On-Site Leased Workers of Defender Services, Ramseur, NC: February 3, 2005.

TA-W-58,842; Spirit Aero Systems, Formerly The Boeing Company, McAlester, OK: February 10, 2005.

TA-W-58,862; La France Industries, A Subsidiary of Mount Vernon Mills, La France, SC: February 7, 2005.

The following certification has been issued. The requirement of downstream producer to a trade certified firm and section 246(a)(3)(A)(ii) of the Trade Act have been met.

None.

Negative Determinations for Worker Adjustment Assistance

In the following cases, the investigation revealed that the criteria for eligibility have not been met for the reasons specified.

The investigation revealed that criterion (a)(2)(A)(I.A) and (a)(2)(B)(II.A) (no employment decline) has not been met.

TA-W-58,294A; Celanese Emulsions Corporation, RV 45 Emulsions Department, Meredosia, IL.

TA-W-58,294C; Celanese Emulsions Corporation, RV 42 Personal Care, Meredosia, IL.

TA-W-58,294E; Celanese Emulsions Corporation, Lacqer Department, Meredosia, IL.

TA-W-58,865; Butler Veneer Sales, Inc., High Point, NC.

The investigation revealed that criteria (a)(2)(A)(I.B.) (Sales or production, or both, did not decline) and (a)(2)(B)(II.B) (shift in production to a foreign country) have not been met.

TA-W-58,294; Celanese Emulsions Corporation, B Wing Resins Department, Meredosia, IL.

TA-W-58,294B; Celanese Emulsions Corporation, EVA Emulsions Department, Meredosia, IL.

TA-W-58,680; Leemah Electronics, San Francisco, CA.

TA-W-58,946; Fibre-Metal Products Co., Concordville, PA.

The investigation revealed that criteria (a)(2)(A)(I.C) (increased imports) and (a)(2)(B)(II.B) (No shift in production to a foreign country) have not been met.

TA-W-58,294D; Celanese Emulsions Corporation, Solvent Adhesive Compound Department, Meredosia, IL.

TA-W-58,294F; Celanese Emulsions Corporation, Hot Melt Department, Meredosia, IL.

TA-W-58,496; Bosch Fuel Systems, LLC, Subsidiary of Robert Bosch GMBH, Kentwood, MI.

TA-W-58,724; Sanford North America, Paper Mate Division, Santa Monica, CA.

TA-W-58,744; Omco Cast Metals, Inc., Winchester, IN.

TA-W-58,774; Innovex, Inc., Litchfield, MN.

TA-W-58,775; Maytag Herrin Laundry Products, Appliance Division, Herrin, IL.

TA-W-58,783; Mohon International, Div. of Sagus Int'l, Paris, TN.

The investigation revealed that criteria (a)(2)(A)(I.C) (Increased imports and (a)(2)(B)(II.C) (has shifted production to a foreign country) have not been met.

TA-W-58,971; Sotco, Inc., West Paducah, KY.

TA-W-58,979; Tension Envelopes Corp., Manufacturing Department, Minnetonka, MN.

The workers firm does not produce an article as required for certification under section 222 of the Trade Act of 1974.

TA-W-58,759A; Buckingham Galleries, D/B/A Hitchcock Fine Home Furnishings, Wilton, CT.

TA-W-58,759B; Buckingham Galleries, D/B/A Hitchcock Fine Home Furnishings, Riverton, CT.

TA-W-58,759C; Buckingham Galleries, D/B/A Hitchcock Fine Home Furnishings, Orange, CT.

TA-W-58,759D; Buckingham Galleries, D/B/A Hitchcock Fine Home Furnishings, Glastonbury, CT.

TA-W-58,825; Leather Bella, LLC, Randleman, NC.

TA-W-58,854; IBM Application Services, Business Consulting Services, RTP, NC.

TA-W-58,933; Delta Airlines, Inc., Maintenance Dept., Portland, OR.

TA-W-58,939; Kmart, Rainbow City, AL.

TA-W-58,944; Airfoil Technologies International, Mentor, OH.

TA-W-58,951; Delta Airlines, Inc., Technical Operations, Atlanta, GA.

The investigation revealed that criteria (2) has not been met. The workers firm (or subdivision) is not a supplier or downstream producer to trade-affected companies.

TA-W-58,963; Huntington Foam, Greenville, MI.

Negative Determinations for Alternative Trade Adjustment Assistance

In order for the Division of Trade Adjustment Assistance to issue a certification of eligibility to apply for Alternative Trade Adjustment Assistance (ATAA) for older workers, the group eligibility requirements of section 246(a)(3)(A)(ii) of the Trade Act must be met.

In the following cases, it has been determined that the requirements of section 246(a)(3)(ii) have not been met for the reasons specified.

Since the workers are denied eligibility to apply for TAA, the workers cannot be certified eligible for ATAA.

TA-W-58,294A; Celanese Emulsions Corporation, RV 45 Emulsions Department, Meredosia, IL.

TA-W-58,294C; Celanese Emulsions Corporation, RV 42 Personal Care, Meredosia, IL.

TA-W-58,294E; Celanese Emulsions Corporation, Lacqer Department, Meredosia, IL.

TA-W-58,865; Butler Veneer Sales, Inc., High Point, NC.

TA-W-58,294; Celanese Emulsions Corporation, B Wing Resins Department, Meredosia, IL.

TA-W-58,294B; Celanese Emulsions Corporation, EVA Emulsions Department, Meredosia, IL.

TA-W-58,680; Leemah Electronics, San Francisco, CA.

TA-W-58,946; Fibre-Metal Products Co., Concordville, PA.

TA-W-58,294D; Celanese Emulsions Corporation, Solvent Adhesive Compound Department, Meredosia, IL.

TA-W-58,294F; Celanese Emulsions Corporation, Hot Melt Department, Meredosia, IL.

TA-W-58,496; Bosch Fuel Systems, LLC, Subsidiary of Robert Bosch GMBH, Kentwood, MI.

TA-W-58,724; Sanford North America, Paper Mate Division, Santa Monica, CA.

TA-W-58,744; Omco Cast Metals, Inc., Winchester, IN.

TA-W-58,774; Innovex, Inc., Litchfield, MN.

TA-W-58,775; Maytag Herrin Laundry Products, Appliance Division, Herrin, IL.

TA-W-58,783; Mohon International, Div. of Sagus Int'l, Paris, TN.

TA-W-58,971; Sotco, Inc., West Paducah, KY.

TA-W-58,979; Tension Envelopes Corp., Manufacturing Department, Minnetonka, MN.

TA-W-58,759A; Buckingham Galleries, D/B/A Hitchcock Fine Home Furnishings, Wilton, CT.

TA-W-58,759B; Buckingham Galleries, D/B/A Hitchcock Fine Home Furnishings, Riverton, CT.

TA-W-58,759C; Buckingham Galleries, D/B/A Hitchcock Fine Home Furnishings, Orange, CT.

TA-W-58,759D; Buckingham Galleries, D/B/A Hitchcock Fine Home Furnishings, Glastonbury, CT.

TA-W-58,825; Leather Bella, LLC, Randleman, NC.

TA-W-58,854; IBM Application Services, Business Consulting Services, RTP, NC.

TA-W-58,933; Delta Airlines, Inc., Maintenance Dept., Portland, OR.

TA-W-58,939; Kmart, Rainbow City, AL.

TA-W-58,944; Airfoil Technologies International, Mentor, OH.

TA-W-58,951; Delta Airlines, Inc., Technical Operations, Atlanta, GA.

TA-W-58,963; Huntington Foam, Greenville, MI.

The Department as determined that criterion (1) of section 246 has not been met. Workers at the firm are 50 years of age or older.

TA-W-58,845; Dura Automotive, Test Center, Pikeville, TN.

TA-W-58,759; Buckingham Galleries, D/B/A Hitchcock Fine Home Furnishings, New Hartford, CT.

The Department as determined that criterion (2) of section 246 has not been met. Workers at the firm possess skills that are easily transferable.

TA-W-58,819; Bentwood Furniture, Inc., Grants Pass, OR.

TA-W-58,805; Collins Aikman Premier Molds, Sterling Heights, MI.

TA-W-58,815; Central Coating and Assembly, Inc., Mt. Pleasant, MI.

TA-W-58,861; Campbell Hausfeld, A Subsid. of Scott Fetzer, On-Site Leased Workers at Superior Staffing, Leitchfield, KY.

TA-W-58,273; Elmer's Products, Inc., Bainbridge, NY.

TA-W-58,968; Maryland Plastics, Inc., Federalsburg, MD.

The Department as determined that criterion (3) of Section 246 has not been met. Competition conditions within the workers' industry are not adverse.

None.

I hereby certify that the aforementioned determinations were issued during the month of March 2006. Copies of These determinations are available for inspection in Room C-5311, U.S. Department of Labor, 200 Constitution Avenue, NW., Washington, DC 20210 during normal business hours or will be mailed to persons who write to the above address.

Dated: March 30, 2006.
Erica R. Cantor,
Director, Division of Trade Adjustment Assistance.

[FR Doc. E6-5518 Filed 4-12-06; 8:45 am]

BILLING CODE 4510-30-P